DEPARTMENT OF TRANSPORTATION

Federal Aviation Administration

Notice of Intent To Rule on Application 07-02-C-00-PFN To Impose a Passenger Facility Charge (PFC) at Panama City/Bay County International Airport, Panama City, FL, and Use the Revenue From a Passenger Facility Charge at the Relocated Panama City/Bay County International Airport, Panama City, FL

AGENCY: Federal Aviation Administration (FAA), DOT.

ACTION: Notice of Intent to Rule on Application.

SUMMARY: The FAA proposes to rule and invites public comment on the application to impose and use the revenue from a PFC at Panama City/Bay County International Airport under the provisions of the 49 U.S.C. 40117 and Part 158 of the Federal Aviation Regulations (14 CFR Part 158).

DATES: Comments must be received on or before September 24, 2007.

ADDRESSES: Comments on this application may be mailed or delivered in triplicate to the FAA at the following address: Orlando Airports District Office, Suite 400, 5950 Hazeltine National Drive, Orlando FL 32822.

In addition, one copy of any comments submitted to the FAA must be mailed or delivered to Mr. Randy Curtis, Executive Director, at the following address: Panama City/Bay County International Airport, 3173 Airport Road, Panama City, Florida, 32405.

Air carriers and foreign air carriers may submit copies of written comments previously provided to the (PA) under § 158.23 of Part 158.

FOR FURTHER INFORMATION CONTACT: Susan Moore, Program Manager, Orlando ADO, (407) 812-6331, extension 120. The application may be reviewed in person at this same location.

SUPPLEMENTARY INFORMATION: The FAA proposes to rule and invites public comment on the application to impose and use the revenue from a PFC at Panama City/Bay County International Airport under the provisions of the 49 U.S.C. 40117 and Part 158 of the Federal Aviation Regulations (14 CFR Part 158).

On August 16, 2007, the FAA determined that the application to impose and use the revenue from a PFC submitted by Panama City/Bay County International Airport Authority was substantially complete within the requirements of § 158.25 of Part 158. The FAA will approve or disapprove the application, in whole or in part, no later than November 14, 2007.

The following is a brief overview of the application.

Proposed charge effective date: December 1, 2007.

Proposed charge expiration date: March 1, 2038.

Level of the proposed PFC: $4.50.

Total estimated PFC revenue: $41,968,640.

Brief description of proposed project(s): Relocate Panama City/Bay County International Airport: Site Development, Primary Runway Paving, Paving/Lighting/Navaids Installation, Terminal Construction, Utilities Installation and Facilities Construction.

Class or classes of air carriers which the public agency has requested not be required to collect PFCs: None.

Any person may inspect the application in person at the FAA office listed above under FOR FURTHER INFORMATION CONTACT and at the FAA regional Airports office located at: 1701 Columbia Avenue, College Park GA, 30337.

In addition, any person may, upon request, inspect the application, notice and other documents germane to the application in person at the Panama City/Bay County International Airport Authority.

Issued in Orlando, FL on August 17, 2007.
W. Dean Stringer,
Manager, Orlando Airports District Office, Southern Region.

[FR Doc. 07-4152 Filed 8-23-07; 8:45 am]

BILLING CODE 4910-13-M